DEPARTMENT OF TRANSPORTATION

Federal Railroad Administration

Safety Advisory 2010-01

AGENCY: Federal Railroad Administration (FRA), Department of Transportation (DOT).

ACTION: Notice of Safety Advisory; Safety Appliance Securement, Potential Failure of Welded and/or Notched Vertical Hand Brake Supports on FTTX Flatcars.

SUMMARY: FRA is issuing Safety Advisory 2010-01 in order to provide guidance to interested parties concerning the inspection and repair of FTTX series flatcars that have welded vertical hand brake supports that have been modified to accommodate a 10-inch wide hand brake step. FRA's Office of Railroad Safety Motive Power and Equipment (MP&E) Division has been notified that approximately 1,851 FTTX series flatcars that are owned by TTX Company (TTX) may have a notch cut into the vertical hand brake supports, which compromises the safety of the hand brake support angles.

FOR FURTHER INFORMATION CONTACT: Tom Blankenship, Mechanical Engineer, MP&E Division (RRS-14); FRA Office of Safety Assurance and Compliance, 1200 New Jersey Avenue, SE., Washington, DC 20590, telephone: (202) 493-6446.

SUPPLEMENTARY INFORMATION: On May 29, 2008, at approximately 10:17 a.m. (CST), a railroad employee was riding a cut of four cars while attempting to set the hand brake on Flatcar GVSR 209000. During this task, the hand brake support angles, which had been previously welded, suddenly broke; this may have contributed to the employee falling under the rolling equipment, resulting in a fatality. Preliminary details of this incident indicate that the welded vertical hand brake support angles had an “old break” condition that allowed the remaining weld to fail when force was applied to the hand brake. Field investigation of the failed vertical hand brake support indicated that the hand brake and/or brackets were improperly applied or not mechanically fastened to the car. See Title 49 Code of Federal Regulations (CFR) Sections 231.1(a)(4)(iii) and 231.27(a)(4)(iii), and Safety Appliance Defect Code 231.110.B3, requiring hand brake housing to be securely fastened to a car. As a result of this fatality, FRA issued Safety Advisory 2008-02 stating that additional flatcars may have vertical hand brake supports that could be subject to a similar type of failure.

Recognizing the need to ensure safety, FRA recommended that railroads and car owners operating flatcars that have a vertical hand brake support that is welded to the carbody carefully inspect the cars to determine the adequacy of any welded securement. Further, any car found with a defective condition should be immediately handled for repair in accordance with 49 U.S.C. 20303, and repaired in accordance with accepted industry practice or by using approved fasteners as outlined in 49 CFR 231.1(a)(4)(iii). Welding, where present, must be done in accordance with industry practice, as specified in American Welding Society (AWS) Standards D1 and D15.

Regional FRA inspectors have recently observed flatcars in TTX ownership with FTTX reporting marks, which may also pose a significant safety risk on account of notched vertical handbrake supports. The vertical handbrake supports appear to have been “notched” in order to apply a nonstandard 10-inch brake step in place of the 8-inch brake step that was originally designed for the cars. Cars tentatively identified that may have the nonstandard 10-inch brake step include, but are not limited to, the following car series:

Known cars | Possible series involved
FTTX 961917 | 961370-961917
FTTX 971554 | 971049-971613
FTTX 972703, 972762, 972235 | 972047-972946
FTTX 940540 | 940182-940872
FTTX 963325 | 963325

FRA has contacted the Association of American Railroads (AAR) and the car owner, TTX, to alert AAR and its member railroads of the potential safety risk these cars may pose in service. TTX and AAR have issued an Early Warning (EW-5240) in accordance with AAR Rule 125, which includes inspection instructions, temporary repair of affected cars, and the recommended disposition of subject cars.

Recommended Action: Due to the application of nonstandard 10-inch wide brake steps, the strength of the vertical hand brake stanchions may have been compromised on the above-noted FTTX flatcars. As with the GVSR flatcar, there is a potential for cracked vertical stanchions. FRA recommends and has requested that TTX furnish FRA with the following information for the FTTX cars involved:

1. The number of cars in TTX ownership (to include the reporting marks with number series) that may have a welded vertical handbrake support;

2. The location of each car that is in service or storage;

3. Each car that has been designated for scrapping, identified by car number and storage location;

4. A full description, calculations, and drawings/sketches for the proposed “temporary fix”;

5. Any cars that have a “notched stanchion,” and any cars with improperly applied hand brakes, must be handled in accordance with 49 U.S.C. 20303. Repairs to subject cars must be performed in accordance with accepted industry practice or by using approved fasteners, as outlined in 49 CFR 231.27(a)(4)(iii). Welding, where present, must be performed to an acceptable manufacturing welding industry standard (AWS) within a certified weld facility that typically makes weld repairs to freight cars; and

6. A concise “action plan” that includes the following:

a. Schedule of car inspections covering those TTX cars potentially at risk;

b. Description of car disposition (scrap, temporary repair, or permanent repair);

c. Schedule of when all cars will have permanent repairs completed. Schedule to include number of cars that will be repaired on a monthly basis, and projected versus actual cars repaired;

d. List of all cars that have or will have a welded repair. The list should include the name of the AWS-qualified shop that will make the repair for each car; and

e. A final proposed permanent repair with attached drawings and procedures.

At this time, FRA further recommends that AAR and TTX continue to inspect and repair all of the above-noted series flatcars, and immediately handle for repair those cars found with defective fastening conditions in accordance with EW-5240 via the following steps:

1. Empty Cars. Conduct a visual inspection of the vertical hand brake supports for cracks or evidence of a stanchion that had previously been cracked and then weld repaired.

a. Any stanchion found with a crack in vertical stanchion, or cracked and then weld repaired stanchion, should be handled in accordance with the following: withhold car from loading; repair car per TTX Company Drawing No. 17057 (Rev. E), Handbrake Temporary Stanchion Repair; alert car owner; and request disposition of car. Report car as MW (Activity Code)—Car moving on AAR approved owners instructions-also includes move to scrap.

b. If no defects are found, the car may remain in service. Report car as MR (Activity Code)—Car inspected; returned to service.

2. Loaded Cars. Conduct a visual inspection of the vertical hand brake supports for cracks or evidence of a stanchion that had previously been cracked and then weld repaired.

a. Any stanchion found with a crack in vertical stanchion, or cracked and then weld repaired stanchion should be handled in accordance with the following: repair car per TTX Company Drawing No. 17057 (Rev. E), Handbrake Temporary Stanchion Repair; move car to destination and unload; withhold car from further loading; alert car owner; and request disposition of car. Report car as MW—Car moving on AAR approved owners instructions—also includes move to scrap.

b. If no defects are found, the car may remain in service. Report car as MR—Car inspected; returned to service.

3. Temporary Repair. The temporary repair is fully documented in the TTX Company Drawing identified above. The repair reinforces the vertical stanchions with ½″ plates. These doubler plates are mechanically fastened to the vertical stanchions and are also mechanically fastened into the end sill of the car. Disposition requests noted in the above procedures should be directed to Mr. Rick Clement at TTX. His direct phone number is (312) 984-3849. His e-mail address is Rick_Clement@ttx.com.

FRA may modify this Safety Advisory 2010-01, issue additional safety advisories, or take other appropriate action necessary to ensure the highest level of safety on the Nation's railroads.

Issued in Washington, DC on May 19, 2010.
Jo Strang,
Associate Administrator for Railroad Safety/Chief Safety Officer.

[FR Doc. 2010-12556 Filed 5-24-10; 8:45 am]

BILLING CODE 4910-06-P